DEPARTMENT OF AGRICULTURE

Food Safety and Inspection Service

[Docket No. FSIS-2009-0037]

Codex Alimentarius Commission: Meeting of the Codex Committee on Milk and Milk Products

AGENCY: Office for Food Safety, USDA.

ACTION: Notice of public meeting and request for comments.

SUMMARY: The Office for Food Safety, and the Agricultural Marketing Service (AMS) of the U.S. Department of Agriculture (USDA), are sponsoring a public meeting on January 13, 2010. The objective of the public meeting is to provide information and receive public comments on agenda items and draft United States positions that will be discussed at the 9th Session of the Codex Committee on Milk and Milk Products (CCMMP) of the Codex Alimentarius Commission (Codex), which will be held in Auckland, New Zealand, February 1-5, 2010. The Deputy Under Secretary for Food Safety and the AMS recognize the importance of providing interested parties the opportunity to obtain background information on the 9th Session of the CCMMP and to address items on the agenda.

DATES: The public meeting is scheduled for Wednesday, January 13, 2010, from 1:30 p.m. to 3:30 p.m.

ADDRESSES: The public meeting will be held in Room 3074, South Agriculture Building, USDA, 14th Street and Independence Avenue, SW., Washington, DC 20250. Documents related to the 9th Session of the CCMMP will be accessible via the World Wide Web at the following address: http://www.codexalimentarius.net/current.asp.

The U.S. Delegate to the 9th Session of the CCMMP, Duane R. Spomer, AMS, invites interested U.S. parties to submit their comments electronically to the following e-mail address: Susan.Sausville@ams.usda.gov.

FOR FURTHER INFORMATION CONTACT: Susan M. Sausville, Chief, AMS, Dairy Standardization; Telephone: (202) 720-9382; Fax: (202) 720-2643; e-mail: Susan.Sausville@ams.usda.gov.

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure that fair practices are used in trade.

The CCMMP was established to elaborate codes and standards for milk and milk products. The CCMMP is hosted by the Government of New Zealand.

Issues To Be Discussed at the Public Meeting

The following items on the agenda for the 9th Session of the CCMMP will be discussed during the public meeting:

1. Matters Referred by the Codex and other Codex committees and task forces.

2. Draft Amendment to the Codex Standard for Fermented Milks (CODEX STAN 243-2003) pertaining to drinks based on fermented milk.

3. Report of the working group on the proposed draft standard for processed cheese.

4. Maximum levels for annatto extracts in Codex standards for milk and milk products.

5. Report of the International Dairy Federation and the International Organization for Standardization Working Group on Methods of Analysis and Sampling for Milk and Milk Products.

6. Inconsistent presentation of food additive provisions in Codex standards for milk and milk products.

7. Consistency of the Model Export Certificate for Milk and Milk Products with the Generic Model Official Certificate (Annex to the Guidelines for Design, Production, Issuance and Use of Generic Official Certificates.)

Each issue listed will be fully described in documents distributed, or to be distributed, by the Secretariat prior to the meeting. Members of the public may access these documents (see ADDRESSES)

Public Meeting

At the January 13, 2010 public meeting, draft United States positions on the agenda items will be described and discussed, and attendees will have the opportunity to pose questions and offer comments. Written comments may be offered at the meeting or sent to Susan Sausville (see ADDRESSES.) Written comments should state that they relate to activities of the 9th Session of the CCMMP.

Additional Public Notification

Public awareness of all segments of rulemaking and policy development is important. Consequently, in an effort to ensure that minorities, women, and persons with disabilities are aware of this notice, FSIS will announce it online through the FSIS Web page located at http://www.fsis.usda.gov/regulations/2009_Notices_Index/.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an electronic mail subscription service which provides automatic and customized access to selected food safety news and information. This service is available at http://www.fsis.usda.gov/news_and_events/email_subscription/. Options range from recalls to export information to regulations, directives and notices. Customers can add or delete subscriptions themselves, and have the option to password protect their accounts.

Done at Washington, DC, on January 5, 2010.
Karen Stuck,
U.S. Manager for Codex Alimentarius.

[FR Doc. 2010-218 Filed 1-6-10; 4:15 pm]

BILLING CODE 3410-DM-P